ENVIRONMENTAL PROTECTION AGENCY

[EPA-HQ-OPP-2012-0489; FRL-9355-7]

Cancellation of Pesticides for Non-Payment of Year 2012 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15, 2012, has gone unpaid for 204 registrations. Section 4(i)(5)(G) of FIFRA provides that the EPA Administrator may cancel these registrations by order and without a hearing; orders to cancel all 204 of these registrations have been issued within the past few days.

DATES: A cancellation is effective on the date the cancellation order is signed.

FOR FURTHER INFORMATION CONTACT: Michael Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

The docket for this action, identified by docket identification (ID) number EPA-HQ-OPP-2012-0489, is available at http://www.regulations.gov or at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

Section 4(i)(5) of FIFRA, as amended in October 1988 (Pub. L. 100-532), December 1991 (Pub. L. 102-237), and again in August 1996 (Pub. L. 104-170), requires that all pesticide registrants pay an annual registration maintenance fee, due by January 15 of each year, to keep their registrations in effect. This requirement applies to all registrations granted under FIFRA section 3 as well as those granted under FIFRA section 24(c) to meet special local needs. Registrations for which the fee is not paid are subject to cancellation by order and without a hearing.

The Food, Agriculture, Conservation, and Trade Act Amendments of 1991, Public Law 102-237, amended FIFRA to allow the EPA Administrator to reduce or waive maintenance fees for minor agricultural use pesticides when she determines that the fee would be likely to cause significant impact on the availability of the pesticide for the use. The Agency has waived the fee for 196 minor agricultural use registrations at the request of the registrants.

In fiscal year 2012, maintenance fees were collected in one billing cycle. The Pesticide Registration Improvement Renewal Act (PRIRA) was passed by Congress in October 2007. PRIRA authorized the Agency to collect $22 million dollars in maintenance fees in fiscal year 2012. In late 2011, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in February 2012, to companies who did not respond and to companies who responded, but paid for less than all of their registrations. Since mailing the notices of intent to cancel, EPA has maintained a toll-free inquiry number through which the questions of affected registrants have been answered.

Maintenance fees have been paid for about 15,420 FIFRA section 3 registrations, or about 96% of the registrations on file in December 2011. Fees have been paid for about 2,028 FIFRA section 24(c) registrations, or about 88% of the total on file in December 2011. Cancellations for non-payment of the maintenance fee affect about 182 FIFRA section 3 registrations and about 22 FIFRA section 24(c) registrations.

The cancellation orders generally permit registrants to continue to sell and distribute existing stocks of the canceled products until January 15, 2013, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2012 maintenance fee. These registrations have been canceled by order and without hearing. Cancellation orders were sent to affected registrants via certified mail in the past several days. The Agency is unlikely to rescind cancellation of any particular registration unless the cancellation resulted from Agency error.

Table 1—FIFRA Section 24(c) Registrations Canceled for Non-Payment of 2012 Maintenance Fee
SLN No. | Product name
AR-99-0008 | IDA, Inc. Diuron 80W.
CA-78-0207 | Union Carbide Sevin Brand 50-W Insecticide.
CA-98-0003 | Volck Supreme Spray.
HI-94-0003 | Dimilin 25W Insect Growth Regulator.
ID-06-0014 | Prozap Zinc Phosphide Pellets.
KS-04-0005 | Atrazine 4L.
KS-10-0003 | Rozol Prairie Dog Bait.
MT-95-0003 | Zinc Phosphide Oat Bait.
MT-09-0002 | CFT Legumine Fish Toxicant.
NC-09-0003 | Dinotefuran 20% Turf, Ornamental and Veg. Transplant.
NV-04-0003 | Zinc Phosphide Oat Bait.
NV-06-0007 | Prozap Zinc Phosphide Pellets.
NY-09-0003 | Superchlor.
OR-09-0005 | Assail 70WP Insecticide.
PA-08-0006 | Dinotefuran 20% Turf, Ornamental & Veg. Transplant.
SD-07-0001 | Zinc Phosphide Oat Bait.
SD-07-0002 | Zinc Phosphide Prairie Dog Bait.
TX-11-0003 | Bollgard II Cotton.
WA-03-0004 | Formaldehyde Solution 37.
WA-06-0011 | Tristar 70 WSP Insecticide.
WA-07-0006 | Assail 70 WP Insecticide.
WA-10-0006 | Burrows E Wrap.

Table 2—FIFRA Section 3 Registrations Canceled for Non-Payment of 2012 Maintenance Fee
Registration No. | Product name
000106-00079 | Broadspec 256.
000322-00008 | Pearson's Rat Poison.
000706-00106 | Claire Lice Killer.
001043-00117 | Amerse 2.
001043-00118 | LPH(R).
001327-00036 | Fulex DDVP Fumigator.
001327-00041 | Fulex Nicotine Fumigator.
001327-00042 | Fulex Permethrin Fumigator.
001561-00010 | Steramine 2-G Tablets.
001691-00115 | Oxyclear.
001769-00227 | Chemene X.
001990-00386 | Co-Op R.O.L. Mineral.
001990-00387 | Rabon Oral Larvicide Block.
003090-00214 | Sanitized Brand Moving Van Interior Fogger.
003377-00034 | Sanibrom S Biocide Technical.
003377-00074 | Stabrom 910 Biocide.
003487-20203 | Roach Destroyer.
003635-00267 | Deep Crystal.
003635-00275 | GCO-30, Bacteriostat and Algaecide.
003635-00277 | GCO-30LM Bacteriostat and Algaecide.
006390-00016 | Vikol #LO-25.
007173-00247 | Generation Meal Bait Packs.
007173-00291 | Ant Gel Bait Syringe.
007173-00292 | Roach Gel Bait Syringe.
007173-00296 | Pinpoint Ant Gel Bait Station.
007173-00298 | Pinpoint Roach Gel Bait Station.
007405-00071 | Chemi-Cap Wasp and Hornet Killer.
007405-00075 | CPC Crawling Insect Killer.
007616-00084 | HSSH.
008177-00071 | Enterprise Stain & Wood Preservative.
008383-00006 | Sporicidin-HD Concentrated for Hemodialysis.
008655-00011 | Eastman Acetic Acid P Grain and Hay Preservative.
009339-00023 | Aquagard II Spray Waterbase Antifouling Paint for Outboards & Outdrive.
009468-00032 | Kull 50 S.
009468-00036 | Alecto H20 Herbicide.
009468-00038 | Dictator.
009468-00039 | 2,4-D LV6.
009468-00040 | 2,4-D LV4.
009468-00041 | 2,4-D Amine 4.0.
009468-00042 | Duplex Herbicide.
009468-00043 | Impale Insecticide.
010308-00023 | Sumithion 20MC Roach Bait Concentrate.
010330-00016 | Ethylene Oxide 10% and Carbon Dioxide Sterilizing Gas.
010330-00018 | 20% Ethylene Oxide & 80% Carbon Dioxide Sterilizing Gas.
010330-00021 | 8.5% Ethylene Oxide & Carbon Dioxide Sterilizing Gas.
011623-00011 | Flying Insect Killer No. II.
011694-00099 | Medaphene Plus Disinfectant Spray.
014663-00001 | VBC Dinotefuran Technical.
015300-00016 | Chemical Treatment CL-2061.
035380-00001 | Elston Gopher Getter Bait.
035380-00003 | G.G. Jr. Hand Probe Gopher Getter Bait.
035484-00001 | Gordon's Bordeaux Mixture.
035975-00004 | Sodium Fluoroacetate (Compound 1080) Livestock Protection Collar.
036426-00003 | Crude Pyrethrum Extract.
036638-00023 | Nomate PBW Fiber.
037731-20001 | Sun-Clor.
037910-00009 | Nissan T.C.C.A. Tablet.
037982-20001 | Bacticide.
037982-20003 | L.T. Sanitizer 9.2%.
039272-00012 | Wepak Lemon Disinfectant.
040208-00003 | Crack-Shot Residual Insect Killer.
040208-00006 | Avenger Dust Insecticide.
040510-00005 | Sanitizer, Phenolic Type, Concentrate Fed. Spec. 0-D-1435.
040849-00079 | Enforcer Fire Ant Bait.
042850-00003 | Results Pet Powder.
043576-00002 | Feather Glo Bird-Cage-Defender.
044392-00005 | MBC 325.
044428-00003 | Anti-Fouling Bottom Paint 030010.
045337-00010 | Take Out Algicide.
046274-00002 | Dakin's Solution Disinfectant By Century.
048302-00004 | Ravax AF Synthetic Resin Anti-Fouling Paint.
049403-00016 | Nipacide BK.
049403-00025 | Nipacide CI 15.
049403-00032 | Nipacide TBX.
049403-00033 | Nipacide GSF-A.
049538-00003 | Phyton 27 New Dimension.
050404-00010 | Duranon Premium Insect Repellent Apparel.
051032-00014 | Micro-Sul Dusting/wettable Sulfur.
053254-00006 | Oxidan TCA Tablets.
053254-00008 | Oxidan TCA/T200 Tablets.
054998-00009 | Brom-Aid.
056336-00022 | Checkmate SF.
056336-00032 | Checkout 60/40.
056336-00033 | Checkout 40/60.
056336-00034 | Checkmate CM Puffer Dispenser.
056572-00002 | Chlorine Gas.
057727-00001 | Buddies Puddy.
059345-00001 | Equi-Fly Oral Larvicide.
059823-00003 | Biobarrier II, Preemergence Weed Control System.
061667-00004 | Ag Sanitizer 12.5%.
062563-00004 | Beauty Liquid Disinfecting Toilet Bowl Cleaner.
063898-00002 | Tomicide S.
065615-00001 | Scoot Mole Evacuator.
065615-00002 | Scoot TM Rabbit.
065615-00004 | Scoot TM Deer Shrub and Tree Protection.
067360-00016 | Policida P-4.
067517-00003 | C & S Powder.
067517-00010 | Chlorinated Cleaner.
067517-00015 | Disinfectant Concentrate (4X).
067517-00021 | Purina Cattle Duster Insecticide.
067517-00026 | Purina Fly Larvicide (Feed Premix).
067517-00030 | Mushroom Farm Iodine Concentrate.
067517-00040 | Rabon Dust for Livestock and Poultry.
067517-00053 | Sanitizer Cleaner.
067517-00083 | Purina Cattle Mineral 12:12 VA Fly Larvicide.
067649-00005 | Chlorine SG.
067959-00002 | Trilin 10G.
067959-00004 | Trilin Herbicide.
068292-00002 | Weedaxe Herbicide.
069361-00013 | Triclopyr 4 Herbicide.
069361-00023 | Reaplon Ester.
069470-00024 | CDB Sanifizz 50 ST.
069493-00001 | Triad Pesticide.
070310-00002 | Agroneem Plus.
070369-00003 | Sunbeam Bacteriostat Tablets.
070387-00001 | Nimbecidine.
070553-00001 | Permethrin 98.5% Technical.
070553-00003 | Permethrin 80% MUP.
070567-00001 | BCS Sodium Hypochlorite Solution (12.5%) Mfg. Use.
070567-00003 | BCS Sodium Hypochlorite Solution (10%).
070567-00004 | BCS Sodium Hypochlorite Solution (11.9%).
071021-00003 | Formaldehyde Solution 37F.
071406-00006 | Diffusit SP.
071406-00007 | Diffusit SP 124.
072080-00002 | BAP-10.
072159-00004 | Agrisel Multi-Purpose Insect Killer 2.
072159-00008 | Bifenthrin Pro Insecticide.
072315-00010 | Olin Concentrated Sodium Hypochlorite.
072468-00003 | PMC 360.
072468-00005 | Mold Wipes 360.
072679-00002 | Copper Paint No. 4 Green.
073092-00001 | Superspeed SP52.
073601-00002 | Trichlor Chlorinating Tablets.
073601-00003 | Trichlor Granular.
073601-00005 | Dichlor 56.
074530-00041 | Helosate 70 Herbicide.
074530-00046 | Helosate Aquatic and VM Herbicide.
074530-00051 | Streamer Max.
074616-00001 | Calcium Hypochlorite.
075277-00001 | Deuce.
075340-00003 | Cop-R-Nap RTU Solution.
075341-00003 | Osmose Timberfume.
075341-00008 | Osmose Cop-R-Nap.
075341-00012 | Hollow Heart CF.
075341-00013 | Cop-R-Plastic II Wood Preserving Compound.
075639-00005 | Antmasters Complete Gel Bait.
075832-00003 | Treaters Choice.
075832-00004 | Chromic Acid-A.
079405-00002 | Hay Delight.
079442-00013 | Exosex APM.
080967-00006 | Gly N Go.
080967-00008 | Riocamba N Go Herbicide.
080967-00009 | Ascadera N Go Herbicide.
081045-00001 | Healthy Outdoors Brand Sustained Release Mosquito Larvicide.
082542-00025 | Solera Imidacloprid 2F Insecticide.
082744-00001 | Ratimor Wax Block.
082744-00002 | Ratimor Soft Bait.
083070-00005 | Imidadacloprid 75 MUP.
083359-00004 | Avex.
083851-00014 | Amtide Imidacloprid 2F Greenhouse/nursery.
083884-00007 | Invasan Am 110 US.
083979-00006 | Rotam Gly 41% Plus Herbicide.
084681-00002 | Deer Guard 2.
084878-00004 | Citrepel Plus.
085575-00001 | First Call.
086004-00004 | Glyphosate 41% SL.
086044-00002 | Rootplug.
086145-00004 | Mag Shock.
086203-00006 | 1% Etofenprox Fogger.
086203-00007 | 1% Etofenprox Aerosol.
086819-00001 | Evenxchange.
086869-00003 | Quinclorac 75 DF Select.
087370-00001 | Cyclops ATO Herbicide.
087370-00002 | Bijoux Herbicide.
087722-00001 | Bactiblock 101 R 1.47.
087722-00002 | Bactiblock 101 RKC 1.47.
087952-00001 | Marketquest One Drop Flea & Tick Control with IGR-2.
087985-00001 | Mold Inhibit.
088031-00001 | Rootgro.
088031-00002 | GA3 4%.
088031-00003 | Technical 3-Indolebutyric Acid.
088058-00001 | Chlorothalonil Technical.

IV. Provisions for Disposition of Existing Stocks

The effective date of cancellation will be the date of the cancellation order. The orders effecting these requested cancellations will generally permit a registrant to sell or distribute existing stocks until January 15, 2013, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

V. Docket

Complete lists of registrations canceled for non-payment of the maintenance fee will also be available for reference during normal business hours at the OPP Docket. See Unit I.B.

List of Subjects

Environmental protection, Administrative practice and procedure, Pesticides and pests.

Dated: July 18, 2012.
Steven Bradbury,
Director, Office of Pesticide Programs.

[FR Doc. 2012-18375 Filed 7-26-12; 8:45 am]

BILLING CODE 6560-50-P